DEPARTMENT OF DEFENSE

Office of the Secretary

[Docket ID: DOD-2011-OS-0043]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on May 18, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on April 12, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 12, 2011.
Morgan F. Park,
Alternate OSD Federal Register Liaison Officer, Department of Defense.

DPR 35

System name:

Defense Injury and Unemployment Compensation System (November 14, 2007, 72 FR 64056).

Changes:

* * * * *

Categories of records in the system:

Delete and replace with “Individuals name, Social Security Number (SSN) or employee ID, date of birth, gender, home phone number, component, occupation, assignment and duty location information, wages, benefits, entitlement data necessary to injury or unemployment claim management, Department of Labor/Office of Workers Compensation Programs claim data, authorization for medical care, related DoD personnel records such as, timekeeping and payroll data, reports descriptive of the incident and extent of injury for use in Department of Labor/Office of Workers Compensation Program (DOL/OWCP) adjudication of the claim, initial notification to agency safety personnel for Occupational Safety and Health Act (OSHA) reporting purposes, reports related to payment of benefits through SESA offices, State where the claim for unemployment compensation was filed and approximate date filed with the SESA.”

Authority for maintenance of the system:

Delete entry and replace with “5 U.S.C. Chapter 81, Compensation for Work Injuries; 10 U.S.C. 136, Under Secretary of Defense for Personnel and Readiness; DoD Instruction (DoDI) 1400.25-V810, DoD Civilian Personnel Management System: Injury Compensation; DoDI 1400.25-V850, DoD Civilian Personnel Management System: Unemployment Compensation; DoD 1400.25-M, DoD Civilian Personnel Manual; and E.O. 9397(SSN), as amended.”

* * * * *

Routine uses of records maintained in the system, including categories of users and the purposes of such uses:

Delete entry and replace with “In addition to those disclosures generally permitted under 5 U.S.C. 552a(b) of the Privacy Act of 1974, these records may specifically be disclosed outside the DoD as a routine use pursuant to 5 U.S.C. 552a(b)(3) as follows:

To the Office of Personnel Management and Social Security Administration for the purpose of ensuring appropriate payment of benefits.

The DoD “Blanket Routine Uses” set forth at the beginning of the Office of the Secretary of Defense (OSD) compilation of systems of records notices apply to this system of records.”

* * * * *

Record access procedures:

Delete entry and replace with “Individuals seeking access to information about themselves contained in this system of records should address written inquiries to the OSD/Joint Staff, Freedom of Information Act Requester Service Center, Office of Freedom of Information, 1155 Defense Pentagon, Washington, DC 20301-1155.

Requests should include the name and number of this system of records notice, include the individual's full name, SSN, address, and be signed. If the request involves unemployment compensation, it should include the State where the claim for unemployment compensation was filed and approximate date filed with the SESA.”

* * * * *

Record source categories:

Delete entry and replace with “Individual, Defense Civilian Personnel Data System profile and position data, Defense Civilian Pay System wage and earnings data, and DOL/OWCP claim records.”

* * * * *

DPR 35

System name:

Defense Injury and Unemployment Compensation System.

System location:

Civilian Personnel Management Services, 1400 Key Blvd., Rosslyn, VA 22209-5144.

Categories of individuals covered by the system:

Current and former DoD civilian appropriated fund employees and/or their survivors who have filed a claim for workers compensation benefits under the Federal Employees Compensation Act (FECA) by reason of injuries sustained while in the performance of civilian duty or who have filed claims for unemployment compensation through State employment security agencies (SESAs).

Categories of records in the system:

Individuals name, Social Security Number (SSN) or employee ID, date of birth, gender, home phone number, component, occupation, assignment and duty location information, wages, benefits, entitlement data necessary to injury or unemployment claim management, Department of Labor/Office of Workers Compensation Programs claim data, authorization for medical care, related DoD personnel records such as, timekeeping and payroll data, reports descriptive of the incident and extent of injury for use in Department of Labor/Office of Workers Compensation Program (DOL/OWCP) adjudication of the claim, initial notification to agency safety personnel for Occupational Safety and Health Act (OSHA) reporting purposes, reports related to payment of benefits through SESA offices, State where the claim for unemployment compensation was filed and approximate date filed with the SESA.

Authority for maintenance of the system:

5 U.S.C. Chapter 81, Compensation for Work Injuries; 10 U.S.C. 136, Under Secretary of Defense for Personnel and Readiness; DoD Instruction (DoDI) 1400.25-V810, DoD Civilian Personnel Management System: Injury Compensation; DoDI 1400.25-V850, DoD Civilian Personnel Management System: Unemployment Compensation; DoD 1400.25-M, DoD Civilian Personnel Manual; and E.O. 9397 (SSN), as amended.

Purpose(s):

To process FECA claims seeking monetary, medical, and similar benefits for injuries or deaths sustained while performing assigned duties.

Data is collected for incident notification to safety personnel responsible for OSHA recording. Safety claim records are used to support DoD management responsibilities under the applicable regulations and to obtain appropriate injury compensation benefits for qualifying employees or their dependents.

Records are maintained for the purpose of auditing the State itemized listings of unemployment compensation charges, identifying erroneous charges and requesting credits from the SESAs, and tracking the charges to ensure that credits are received from the appropriate State jurisdictions.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Office of Personnel Management and Social Security Administration for the purpose of ensuring appropriate payment of benefits.

The DoD “Blanket Routine Uses” set forth at the beginning of the Office of the Secretary of Defense (OSD) compilation of systems of records notices apply to this system of records.

Policies and practices for storing, retrieving, accessing, retaining, and disposing of records in the system:

Storage:

Electronic storage media.

Retrievability:

Individual's name, SSN, and/or claim number.

Safeguards:

Records are maintained in a controlled facility. Physical entry is restricted by the use of locks, guards, and is accessible only to authorized personnel. Access to records is limited to person(s) responsible for servicing the record in performance of their official duties and who are properly screened and cleared for a need-to-know. Access to computerized data is restricted by passwords, which are changed periodically according to agency security policy.

Retention and disposal:

Disposition pending (until the National Archives and Records Administration approves retention and disposal schedule, records will be treated as permanent).

System manager(s) and address:

Human Resources Specialist, Benefits and Information Systems, Civilian Personnel Management Services, Injury and Unemployment Compensation Division, 1400 Key Blvd, Rosslyn, VA 22209-5144.

Notification procedure:

Individuals seeking to determine whether information about themselves is contained in this system should address written inquiries to the Injury Compensation Program Administrator (ICPA) designated by their servicing Human Resources office, or contact the Benefits and Information Systems, Civilian Personnel Management Services, Injury Compensation Unemployment Compensation Division, 1400 Key Boulevard, Rosslyn, VA 22209-5144 for assistance in identifying the Injury Compensation Program Administrator.

Requests should be signed, include the individual's full name, SSN, and address. It should include the State where the claim for unemployment compensation was filed and approximate date filed with the SESA.

Record access procedures:

Individuals seeking access to information about themselves contained in this system of records should address written inquiries to the OSD/Joint Staff, Freedom of Information Act Requester Service Center, Office of Freedom of Information, 1155 Defense Pentagon, Washington, DC 20301-1155.

Requests should include the name and number of this system of records notice, include the individual's full name, SSN, address, and be signed. If the request involves unemployment compensation, it should include the State where the claim for unemployment compensation was filed and approximate date filed with the SESA.

Contesting record procedures:

The OSD rules for accessing records, for contesting contents and appealing initial agency determinations are contained in OSD Administrative Instruction 81; 32 CFR part 311; or may be obtained from the system manager.

Record source categories:

Individual, Defense Civilian Personnel Data System profile and position data, Defense Civilian Pay System wage and earnings data, and DOL/OWCP claim records.

Exemptions claimed for the system:

None.

[FR Doc. 2011-9338 Filed 4-15-11; 8:45 am]

BILLING CODE 5001-06-P